DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been removed from the list of Specially Designated Nationals and Blocked Person (SDN List). Their property and interests in property are no longer blocked, and U.S. persons are no longer prohibited from engaging in lawful transactions with them.

DATES: See SUPPLEMENTARY INFORMATION section for applicable date(s).

FOR FURTHER INFORMATION CONTACT:

OFAC: Andrea M. Gacki, Director, tel.: 202-622-2480; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On July 2, 2021, OFAC determined that circumstances no longer warrant the inclusion of the following persons on the SDN List and that their property and interests in property are no longer blocked under the relevant sanctions authorities listed below.

Individuals

1. DEZFULIAN, Mohammed Reza (a.k.a. DEZFULIAN, Mohammad Reza), Iran; POB Tehran, Iran; nationality Iran; Additional Sanctions Information—Subject to Secondary Sanctions; Gender Male; National ID No. 0061496766 (Iran) (individual) [NPWMD] [IFSR] (Linked To: MAMMUT DIESEL).

Designated on September 21, 2020, pursuant to Section 1(a)(iv) of Executive Order 13382 of June 28, 2005, “Blocking Property Weapons of Mass Destruction Proliferators and Their Supporters,” 70 FR 38567, 3 CFR, 2006 Comp., p. 170 (E.O. 13382) for acting or purporting to act for or on behalf of, directly or indirectly, MAMMUT DIESEL.

2. FERDOWS, Behzad Daniel, Dubai, United Arab Emirates; DOB 14 Mar 1969; POB Tehran, Iran; nationality Iran; alt. nationality Germany; Additional Sanctions Information—Subject to Secondary Sanctions; Gender Male; Passport C4KNRMNCF (Germany) expires 18 Mar 2018; National ID No. 0037251910 (Iran) (individual) [NPWMD] [IFSR] (Linked To: MAMMUT INDUSTRIAL GROUP P.J.S).

Designated on September 21, 2020, pursuant to Section 1(a)(iv) of E.O. 13382 for acting or purporting to act for or on behalf of, directly or indirectly, MAMMUT INDUSTRIAL GROUP P.J.S.

3. FERDOWS, Mehrzad Manuel, Iran; DOB 23 Jul 1970; POB Tehran, Iran; nationality Iran; alt. nationality Germany; Additional Sanctions Information—Subject to Secondary Sanctions; Gender Male; Passport C4JRGPJ7H (Germany) expires 11 Mar 2019; alt. Passport J32379304 (Iran); National ID No. 0055124240 (Iran) (individual) [NPWMD] [IFSR] (Linked To: MAMMUT INDUSTRIAL GROUP P.J.S).

Designated on September 21, 2020, pursuant to Section 1(a)(iv) of E.O. 13382 for acting or purporting to act for or on behalf of, directly or indirectly, MAMMUT INDUSTRIAL GROUP P.J.S.

Dated: July 2, 2021.
Bradley T. Smith,
Acting Director, Office of Foreign Assets Control, U.S. Department of the Treasury.

[FR Doc. 2021-14568 Filed 7-7-21; 8:45 am]

BILLING CODE 4810-AL-P